DEPARTMENT OF DEFENSE

Office of the Secretary

[Transmittal No. 25-45]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-45 and Policy Justification.

Dated: January 16, 2026.
Stephanie J. Bost,
Alternate OSD Federal Register Liaison Officer, Department of Defense.

BILLING CODE 6001-FR-P

BILLING CODE 6001-FR-C

Transmittal No. 25-45

Notice of Proposed Issuance of Letter of Offer Pursuant to Section 36(b)(1) of the Arms Export Control Act, as amended

(i) Prospective Purchaser: Government of the United Kingdom

(ii) Total Estimated Value:

Major Defense Equipment * | $ 0
Other | $861 million
TOTAL | $861 million

(iii) Description and Quantity or Quantities of Articles or Services under Consideration for Purchase: Equipment and services to support Contractor Logistics Support sustainment for the United Kingdom's C-17 (Globemaster III) aircraft fleet.

Major Defense Equipment (MDE):

None

Non-Major Defense Equipment:

The following non-MDE items will be included: engine components, parts, and accessories; major and minor modifications; computer program identification numbers; spare parts, consumables and accessories, and repair and return support; classified and unclassified software delivery and support; classified and unclassified publications and technical documentation; United States (U.S.) Government and contractor engineering, technical, and logistics support services; and other related elements of logistics and program support.

(iv) Military Department: Air Force (UK-D-QDZ)

(v) Prior Related Cases, if any: UK-D-QDQ

(vi) Sales Commission, Fee, etc., Paid, Offered, or Agreed to be Paid: None known at this time

(vii) Sensitivity of Technology Contained in the Defense Article or Defense Services Proposed to be Sold: None

(viii) Date Report Delivered to Congress: August 26, 2025

* as defined in Section 47(6) of the Arms Export Control Act.

POLICY JUSTIFICATION

United Kingdom—C-17 Globemaster III Aircraft Sustainment Support

The Government of the United Kingdom has requested to buy equipment and services to support contractor logistics support sustainment for the United Kingdom's C-17 (Globemaster III) aircraft fleet. The following non-MDE items will be included: engine components, parts, and accessories; major and minor modifications; computer program identification numbers; spare parts, consumables and accessories, and repair and return support; classified and unclassified software delivery and support; classified and unclassified publications and technical documentation; U.S. Government and contractor engineering, technical, and logistics support services; and other related elements of logistics and program support. The estimated total cost is $861 million.

This proposed sale will support the foreign policy and national security objectives of the U.S. by improving the security of a key NATO Ally that is an important force for political stability and economic progress in Europe.

The proposed sale will improve the United Kingdom's capability to meet current and future threats by ensuring the operational readiness of the Royal Air Force. Its C-17 aircraft fleet provides strategic airlift capabilities that directly support U.S. and coalition operations around the world. The United Kingdom will have no difficulty absorbing these articles and services into its armed forces.

The proposed sale of this equipment and support will not alter the basic military balance in the region.

The principal contractor will be The Boeing Company, located in Arlington, VA. At this time, the U.S. Government is not aware of any offset agreement proposed in connection with this potential sale. Any offset agreement will be defined in negotiations between the purchaser and the contractor.

Implementation of this proposed sale will not require the assignment of any additional U.S. Government or contractor representatives to the United Kingdom.

There will be no adverse impact on U.S. defense readiness as a result of this proposed sale.

[FR Doc. 2026-01131 Filed 1-21-26; 8:45 am]

BILLING CODE 6001-FR-P